DEPARTMENT OF THE TREASURY

Submission for OMB Review; Comment Request

October 19, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 29, 2001 to be assured of consideration.

Customs Service (CUS)

OMB Number: New.

Form Number: Customs Form 442.

Type of Review: New collection.

Title: Application for Exemption from Special Landing Requirements Overflight (Southern Border Only); and General Aviation Telephonic Entry (GATE) (Northern Border Only).

Description: This collection is an application for exemption from special landing requirements (Overflight) and General Aviation Telephonic Entry (GATE) will e used required by private flyers to participate in Customs designated privilege program which provides a waiver for landing requirements and normal Customs processing along the Southern Border, or provides clearance telephonically when pilots report their international arrivals from Canada.

Respondents: Business or other for-profit, Individuals or households, Not-for-profit institutions.

Estimated Number of Respondents: 5,500.

Estimated Burden Hours Per Respondent: 2 minutes.

Frequency of Response: On occasion.

Estimated Total Reporting Burden: 218 hours.

Clearance Officer: Tracey Denning, (202) 927-1429, U.S. Customs Service, Information Services Branch, Ronald Reagan Building, 1300 Pennsylvania Avenue, NW., Room 3.2.C, Washington, DC 20229.

OMB Reviewer: Alexander T. Hunt, (202) 395-7860, Office of Management and Budget, Room 10202, New Executive Office Building, Washington, DC 20503.

Lois K. Holland,
Departmental Reports, Management Officer.

[FR Doc. 01-27270 Filed 10-29-01; 8:45 am]

BILLING CODE 4820-02-P